DEPARTMENT OF THE TREASURY

Office of Foreign Assets Control

31 CFR Part 587

Publication of Russian Harmful Foreign Activities Sanctions Regulations Web General Licenses 9, 9A, 9B, 9C, 10, 10A, 10B, 10C, 11, and 12

AGENCY: Office of Foreign Assets Control, Treasury.

ACTION: Publication of Web General Licenses.

SUMMARY: The Department of the Treasury's Office of Foreign Assets Control (OFAC) is publishing ten general licenses (GLs) issued in the Russian Harmful Foreign Activities Sanctions program: GLs 9, 9A, 9B, 9C, 10, 10A, 10B, 10C, 11, and 12, each of which was previously made available on OFAC's website.

DATES: GL 9 was issued on February 24, 2022 with an expiration date of May 25, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 24, 2022, OFAC issued GL 9, with an expiration date of May 25, 2022, to authorize certain activities prohibited by Executive Order (E.O.) 14024 of April 15, 2021, “Blocking Property With Respect To Specified Harmful Foreign Activities of the Government of the Russian Federation” (86 FR 20249, April 19, 2021). On March 1, 2022, OFAC incorporated E.O. 14024 into the Russian Harmful Foreign Activities Sanctions Regulations, 31 CFR part 587 (87 FR 11297, March 1, 2022), so subsequent iterations of GL 9 were issued pursuant to the Russian Harmful Foreign Activities Sanctions Regulations. On March 2, 2022, OFAC issued GL 9A, which superseded GL 9 and had an expiration date of May 25, 2022. On April 6, 2022, OFAC issued GL 9B, which superseded GL 9A. GL 9B had different expiration dates for different provisions: paragraphs (a)(1), (b)(1)(i), and (c) of GL 9B had an expiration date of May 25, 2022; and paragraphs (a)(2) and (b)(1)(ii) had an expiration date of June 30, 2022. On April 7, 2022, OFAC issued GL 9C, which superseded GL 9B. GL 9C also had different expiration dates for different provisions: paragraphs (a)(1), (b)(1)(i), and (c) of GL 9B had an expiration date of May 25, 2022; paragraphs (a)(2) and (b)(1)(ii) had an expiration date of June 30, 2022; and paragraphs (a)(3) and (b)(1)(iii) had an expiration date of July 1, 2022.

Similar to GL 9, OFAC issued GL 10 to authorize certain activities prohibited by E.O. 14024, then issued subsequent iterations pursuant to the Russian Harmful Foreign Activities Sanctions Regulations. On February 24, 2022, OFAC issued GL 10, with an expiration date of May 25, 2022. On March 2, 2022, OFAC issued GL 10A, which superseded GL 10 and had an expiration date of May 25, 2022. On April 6, 2022, OFAC issued GL 10B, which superseded GL 10A. GL 10B had different expiration dates for different provisions: paragraphs (a)(1) and (b) had an expiration date of May 25, 2022; and paragraph (a)(2) had an expiration date of June 30, 2022. On April 7, 2022, OFAC issued GL 10C, which superseded GL 10B. Like GL 10B, GL 10C had different expiration dates for different provisions: paragraph (a)(1) and paragraph (b) had an expiration date of May 25, 2022; paragraph (a)(2) had an expiration date of June 30, 2022; and paragraph (a)(3) had an expiration date of July 1, 2022.

On February 24, 2022, OFAC issued GL 11, with an expiration date of March 26, 2022, and GL 12, also with an expiration date of March 26, 2022, to authorize certain activities prohibited by E.O. 14024.

At the time of issuance, OFAC made GLs 9, 9A, 9B, 9C, 10, 10A, 10B, 10C, 11, and 12 available on its website (www.treas.gov/ofac). The text of these GLs is provided below.

OFFICE OF FOREIGN ASSETS CONTROL

Executive Order 14024 of April 15, 2021

Blocking Property With Respect to Specified Harmful Foreign Activities of the Government of the Russian Federation

GENERAL LICENSE NO. 9

Authorizing Transactions Related to Dealings in Certain Debt or Equity

(a) Except as provided in paragraphs (c) and (d) of this general license, all transactions prohibited by Executive Order (E.O.) 14024 that are ordinarily incident and necessary to dealings in debt or equity of one or more of the following entities issued prior to February 24, 2022 (“covered debt or equity”) are authorized through 12:01 a.m. eastern daylight time, May 25, 2022, provided that any divestment or transfer of, or facilitation of divestment or transfer of, covered debt or equity must be to a non-U.S. person:

(1) State Corporation Bank for Development and Foreign Economic Affairs Vnesheconombank;

(2) Public Joint Stock Company Bank Financial Corporation Otkritie;

(3) Sovcombank Open Joint Stock Company;

(4) Public Joint Stock Company Sberbank of Russia;

(5) VTB Bank Public Joint Stock Company; or

(6) Any entity in which one or more of the above entities own, directly or indirectly, individually or in the aggregate, a 50 percent or greater interest.

Note to paragraph (a). The transactions authorized in paragraph (a) of this general license include facilitating, clearing, and settling transactions to divest covered debt or equity to a non-U.S. person, including on behalf of U.S. persons.

(b)(1) Except as provided in paragraph (d) of this general license, all transactions prohibited by E.O. 14024 that are ordinarily incident and necessary to facilitating, clearing, and settling trades of covered debt or equity are authorized through 12:01 a.m. eastern daylight time, May 25, 2022, provided such trades were placed prior to 4:00 p.m. eastern standard time, February 24, 2022.

(2) Debits to accounts on the books of a U.S. financial institution of the blocked entities described in paragraph (a) of this general license are authorized to the extent ordinarily incident and necessary to effect the transactions authorized in paragraph (b)(1) of this general license.

(c) Paragraph (a) of this general license does not authorize:

(1) U.S. persons to sell, or to facilitate the sale of, covered debt or equity to, directly or indirectly, any person whose property and interests in property are blocked; or

(2) U.S. persons to purchase or invest in, or to facilitate the purchase of or investment by U.S. persons in, directly or indirectly, covered debt or equity, other than purchases of or investments in covered debt or equity that are ordinarily incident and necessary to the divestment or transfer of covered debt or equity as described in paragraph (a) of this general license.

(d) This general license does not authorize:

(1) The opening or maintaining of a correspondent account or payable-through account for or on behalf of any entity subject to Directive 2 under E.O. 14024, Prohibitions Related to Correspondent or Payable-Through Accounts and Processing of Transactions Involving Certain Foreign Financial Institutions; or

(2) Any transactions involving any person blocked pursuant to E.O. 14024 other than the blocked persons described in paragraph (a) of this general license, unless separately authorized.

Andrea M. Gacki,

Director, Office of Foreign Assets Control.

Dated: February 24, 2022.

OFFICE OF FOREIGN ASSETS CONTROL

Russian Harmful Foreign Activities Sanctions Regulations

31 CFR Part 587

GENERAL LICENSE NO. 9A

Authorizing Transactions Related to Dealings in Certain Debt or Equity

(a) Except as provided in paragraphs (d) and (e) of this general license, all transactions prohibited by the Russian Harmful Foreign Activities Sanctions Regulations, 31 CFR part 587 (RuHSR), that are ordinarily incident and necessary to dealings in debt or equity of one or more of the following entities issued prior to February 24, 2022 (“covered debt or equity”) are authorized through 12:01 a.m. eastern daylight time, May 25, 2022, provided that any divestment or transfer of, or facilitation of divestment or transfer of, covered debt or equity must be to a non- U.S. person:

(1) State Corporation Bank for Development and Foreign Economic Affairs Vnesheconombank;

(2) Public Joint Stock Company Bank Financial Corporation Otkritie;

(3) Sovcombank Open Joint Stock Company;

(4) Public Joint Stock Company Sberbank of Russia;

(5) VTB Bank Public Joint Stock Company; or

(6) Any entity in which one or more of the above entities own, directly or indirectly, individually or in the aggregate, a 50 percent or greater interest.

Note to paragraph (a). The transactions authorized in paragraph (a) of this general license include facilitating, clearing, and settling transactions to divest covered debt or equity to a non-U.S. person, including on behalf of U.S. persons.

(b)(1) Except as provided in paragraph (e) of this general license, all transactions

prohibited by the RuHSR that are ordinarily incident and necessary to facilitating, clearing, and settling trades of covered debt or equity are authorized through 12:01 a.m. eastern daylight time, May 25, 2022, provided such trades were placed prior to 4:00 p.m. eastern standard time, February 24, 2022.

(2) Debits to accounts on the books of a U.S. financial institution of the blocked entities described in paragraph (a) of this general license are authorized to the extent ordinarily incident and necessary to effect the transactions authorized in paragraph (b)(1) of this general license.

(c) Except as provided in paragraph (e) of this general license, all transactions prohibited by Directive 4 under Executive Order (E.O.) 14024, Prohibitions Related to Transactions Involving the Central Bank of the Russian Federation, the National Wealth Fund of the Russian Federation, and the Ministry of Finance of the Russian Federation, that are ordinarily incident and necessary to the receipt of interest, dividend, or maturity payments in connection with debt or equity of the Central Bank of the Russian Federation, the National Wealth Fund of the Russian Federation, or the Ministry of Finance of the Russian Federation issued before March 1, 2022, are authorized through 12:01 a.m. eastern daylight time, May 25, 2022.

(d) Paragraph (a) of this general license does not authorize:

(1) U.S. persons to sell, or to facilitate the sale of, covered debt or equity to, directly or indirectly, any person whose property and interests in property are blocked; or

(2) U.S. persons to purchase or invest in, or to facilitate the purchase of or investment by U.S. persons in, directly or indirectly, covered debt or equity, other than purchases of or investments in covered debt or equity that are ordinarily incident and necessary to the divestment or transfer of covered debt or equity as described in paragraph (a) of this general license.

(e) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance of the Russian Federation; or

(3) Any transactions otherwise prohibited by the RuHSR, including transactions involving any person blocked pursuant to the RuHSR other than the persons described in paragraph (a) of this general license, unless separately authorized.

(f) Effective March 2, 2022, General License No. 9, dated February 24, 2022, is replaced and superseded in its entirety by this General License No. 9A.

Andrea M. Gacki,

Director, Office of Foreign Assets Control.

Dated: March 2, 2022.

OFFICE OF FOREIGN ASSETS CONTROL

Russian Harmful Foreign Activities Sanctions Regulations

31 CFR Part 587

GENERAL LICENSE NO. 9B

Authorizing Transactions Related to Dealings in Certain Debt or Equity

(a)(1) Except as provided in paragraphs (d) and (e) of this general license, all transactions prohibited by the Russian Harmful Foreign Activities Sanctions Regulations, 31 CFR part 587 (RuHSR), that are ordinarily incident and necessary to dealings in debt or equity of one or more of the following entities issued prior to February 24, 2022 (“Tranche 1 debt or equity”) are authorized through 12:01 a.m. eastern daylight time, May 25, 2022, provided that any divestment or transfer of, or facilitation of divestment or transfer of, Tranche 1 debt or equity must be to a non-U.S. person:

(i) State Corporation Bank for Development and Foreign Economic Affairs Vnesheconombank;

(ii) Public Joint Stock Company Bank Financial Corporation Otkritie;

(iii) Sovcombank Open Joint Stock Company;

(iv) Public Joint Stock Company Sberbank of Russia;

(v) VTB Bank Public Joint Stock Company; or

(vi) Any entity in which one or more of the above entities own, directly or indirectly, individually or in the aggregate, a 50 percent or greater interest.

(2) Except as provided in paragraphs (d) and (e) of this general license, all transactions prohibited by the RuHSR that are ordinarily incident and necessary to dealings in debt or equity of Joint Stock Company Alfa-Bank (“Alfa-Bank”) or any entity in which Alfa-Bank owns, directly or indirectly, a 50 percent or greater interest, issued prior to April 6, 2022 (“Alfa-Bank debt or equity”) are authorized through 12:01 a.m. eastern daylight time, June 30, 2022, provided that any divestment or transfer of, or facilitation of divestment or transfer of, Alfa-Bank debt or equity must be to a non-U.S. person.

Note to paragraph (a). The transactions authorized in paragraph (a) of this general license include facilitating, clearing, and settling transactions to divest covered debt or equity to a non-U.S. person, including on behalf of U.S. persons.

(b)(1) Except as provided in paragraph (e) of this general license, all transactions prohibited by the RuHSR that are ordinarily incident and necessary to facilitating, clearing, and settling trades are authorized:

(i) for Tranche 1 debt or equity, through 12:01 a.m. eastern daylight time, May 25, 2022, provided such trades were placed prior to 4:00 p.m. eastern standard time, February 24, 2022; and

(ii) for Alfa-Bank debt or equity, through 12:01 a.m. eastern daylight time, June 30, 2022, provided such trades were placed prior to 4:00 p.m. eastern daylight time, April 6, 2022.

(2) Debits to accounts on the books of a U.S. financial institution of the blocked entities described in paragraph (a) of this general license are authorized to the extent ordinarily incident and necessary to effect the transactions authorized in paragraph (b) of this general license.

(c) Except as provided in paragraph (e) of this general license, all transactions prohibited by Directive 4 under Executive Order (E.O.) 14024, Prohibitions Related to Transactions Involving the Central Bank of the Russian Federation, the National Wealth Fund of the Russian Federation, and the Ministry of Finance of the Russian Federation, that are ordinarily incident and necessary to the receipt of interest, dividend, or maturity payments in connection with debt or equity of the Central Bank of the Russian Federation, the National Wealth Fund of the Russian Federation, or the Ministry of Finance of the Russian Federation issued before March 1, 2022, are authorized through 12:01 a.m. eastern daylight time, May 25, 2022.

(d) Paragraph (a) of this general license does not authorize:

(1) U.S. persons to sell, or to facilitate the sale of, covered debt or equity to, directly or indirectly, any person whose property and interests in property are blocked; or

(2) U.S. persons to purchase or invest in, or to facilitate the purchase of or investment by U.S. persons in, directly or indirectly, covered debt or equity, other than purchases of or investments in Tranche 1 debt or equity or Alfa-Bank debt or equity (“covered debt or equity”) that are ordinarily incident and necessary to the divestment or transfer of covered debt or equity as described in paragraph (a) of this general license.

(e) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance of the Russian Federation; or

(3) Any transactions otherwise prohibited by the RuHSR, including transactions involving any person blocked pursuant to the RuHSR other than the persons described in paragraph (a) of this general license, unless separately authorized.

(f) Effective April 6, 2022, General License No. 9A, dated March 2, 2022, is replaced and superseded in its entirety by this General License No. 9B.

Andrea M. Gacki,

Director, Office of Foreign Assets Control.

Dated: April 6, 2022.

OFFICE OF FOREIGN ASSETS CONTROL

Russian Harmful Foreign Activities Sanctions Regulations

31 CFR Part 587

GENERAL LICENSE NO. 9C

Authorizing Transactions Related to Dealings in Certain Debt or Equity

(a)(1) Except as provided in paragraphs (d) and (e) of this general license, all transactions prohibited by the Russian Harmful Foreign Activities Sanctions Regulations, 31 CFR part 587 (RuHSR), that are ordinarily incident and necessary to dealings in debt or equity of one or more of the following entities issued prior to February 24, 2022 (“Russian financial institution debt or equity”) are authorized through 12:01 a.m. eastern daylight time, May 25, 2022, provided that any divestment or transfer of, or facilitation of divestment or transfer of, Russian financial institution debt or equity must be to a non-U.S. person:

(i) State Corporation Bank for Development and Foreign Economic Affairs Vnesheconombank;

(ii) Public Joint Stock Company Bank Financial Corporation Otkritie;

(iii) Sovcombank Open Joint Stock Company;

(iv) Public Joint Stock Company Sberbank of Russia;

(v) VTB Bank Public Joint Stock Company; or

(vi) Any entity in which one or more of the above entities own, directly or indirectly, individually or in the aggregate, a 50 percent or greater interest.

(2) Except as provided in paragraphs (d) and (e) of this general license, all transactions prohibited by the RuHSR that are ordinarily incident and necessary to dealings in debt or equity of Joint Stock Company Alfa-Bank (“Alfa-Bank”) or any entity in which Alfa-Bank owns, directly or indirectly, a 50 percent or greater interest, issued prior to April 6, 2022 (“Alfa-Bank debt or equity”) are authorized through 12:01 a.m. eastern daylight time, June 30, 2022, provided that any divestment or transfer of, or facilitation of divestment or transfer of, Alfa-Bank debt or equity must be to a non-U.S. person.

(3) Except as provided in paragraphs (d) and (e) of this general license, all transactions prohibited by the RuHSR that are ordinarily incident and necessary to dealings in debt or equity of Public Joint Stock Company Alrosa (“Alrosa”), or any entity in which Alrosa owns, directly or indirectly, a 50 percent or greater interest, issued prior to April 7, 2022 (“Alrosa debt or equity”) are authorized through 12:01 a.m. eastern daylight time, July 1, 2022, provided that any divestment or transfer of, or facilitation of divestment or transfer of, Alrosa debt or equity must be to a non-U.S. person.

Note to paragraph (a). The transactions authorized in paragraph (a) of this general license include facilitating, clearing, and settling transactions to divest debt or equity of the persons described in paragraph (a) of this general license (“covered debt or equity”) to a non-U.S. person, including on behalf of U.S. persons.

(b)(1) Except as provided in paragraph (e) of this general license, all transactions prohibited by the RuHSR that are ordinarily incident and necessary to facilitating, clearing, and settling trades are authorized:

(i) for Russian financial institution debt or equity, through 12:01 a.m. eastern daylight time, May 25, 2022, provided such trades were placed prior to 4:00 p.m. eastern standard time, February 24, 2022;

(ii) for Alfa-Bank debt or equity, through 12:01 a.m. eastern daylight time, June 30, 2022, provided such trades were placed prior to 4:00 p.m. eastern daylight time, April 6, 2022; and

(iii) for Alrosa debt or equity, through 12:01 a.m. eastern daylight time, July 1, 2022, provided such trades were placed prior to 4:00 p.m. eastern daylight time, April 7, 2022.

(2) Debits to accounts on the books of a U.S. financial institution of the blocked persons described in paragraph (a) of this general license are authorized to the extent ordinarily incident and necessary to effect the transactions authorized in paragraph (b) of this general license.

(c) Except as provided in paragraph (e) of this general license, all transactions prohibited by Directive 4 under Executive Order (E.O.) 14024, Prohibitions Related to Transactions Involving the Central Bank of the Russian Federation, the National Wealth Fund of the Russian Federation, and the Ministry of Finance of the Russian Federation, that are ordinarily incident and necessary to the receipt of interest, dividend, or maturity payments in connection with debt or equity of the Central Bank of the Russian Federation, the National Wealth Fund of the Russian Federation, or the Ministry of Finance of the Russian Federation issued before March 1, 2022, are authorized through 12:01 a.m. eastern daylight time, May 25, 2022.

(d) Paragraph (a) of this general license does not authorize:

(1) U.S. persons to sell, or to facilitate the sale of, covered debt or equity to, directly or indirectly, any person whose property and interests in property are blocked; or

(2) U.S. persons to purchase or invest in, or to facilitate the purchase of or investment by U.S. persons in, directly or indirectly, covered debt or equity, other than purchases of or investments in covered debt or equity that are ordinarily incident and necessary to the divestment or transfer of covered debt or equity as described in paragraph (a) of this general license.

(e) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance of the Russian Federation; or

(3) Any transactions otherwise prohibited by the RuHSR, including transactions involving any person blocked pursuant to the RuHSR other than the persons described in paragraph (a) of this general license, unless separately authorized.

(f) Effective April 7, 2022, General License No. 9B, dated April 6, 2022, is replaced and superseded in its entirety by this General License No. 9C.

Bradley T. Smith,

Deputy Director, Office of Foreign Assets Control.

Dated: April 7, 2022.

OFFICE OF FOREIGN ASSETS CONTROL

Executive Order 14024 of April 15, 2021

Blocking Property With Respect to Specified Harmful Foreign Activities of the Government of the Russian Federation

GENERAL LICENSE NO. 10

Authorizing Certain Transactions Related to Derivative Contracts

(a)(1) Except as provided in paragraph (b) of this general license, all transactions prohibited by Executive Order (E.O.) 14024 that are ordinarily incident and necessary to the wind down of derivative contracts entered into prior to 4:00 p.m. eastern standard time, February 24, 2022, that (i) include one of the following entities (together, the “Covered Entities”) as a counterparty or (ii) are linked to debt or equity of a Covered Entity are authorized through 12:01 a.m. eastern daylight time, May 25, 2022, provided that any payments to a blocked person are made into a blocked account:

(i) State Corporation Bank for Development and Foreign Economic Affairs Vnesheconombank;

(ii) Public Joint Stock Company Bank Financial Corporation Otkritie;

(iii) Sovcombank Open Joint Stock Company;

(iv) Public Joint Stock Company Sberbank of Russia;

(v) VTB Bank Public Joint Stock Company; or

(vi) Any entity in which one or more of the above entities own, directly or indirectly, individually or in the aggregate, a 50 percent or greater interest.

(2) Debits to accounts on the books of a U.S. financial institution of the blocked entities described in paragraph (a)(1) of this general license are authorized to the extent ordinarily incident and necessary to effect the transactions authorized in paragraph (a)(1) of this general license.

(b) This general license does not authorize:

(1) The opening or maintaining of a correspondent account or payable-through account for or on behalf of any entity subject to Directive 2 under E.O. 14024, Prohibitions Related to Correspondent or Payable-Through Accounts and Processing of Transactions Involving Certain Foreign Financial Institutions; or

(3) Any transactions involving any person blocked pursuant to E.O. 14024 other than the blocked persons described in paragraph (a) of this general license, unless separately authorized.

Andrea M. Gacki,

Director, Office of Foreign Assets Control.

Dated: February 24, 2022.

OFFICE OF FOREIGN ASSETS CONTROL

Russian Harmful Foreign Activities Sanctions Regulations

31 CFR Part 587

GENERAL LICENSE NO. 10A

Authorizing Certain Transactions Related to Derivative Contracts

(a)(1) Except as provided in paragraph (c) of this general license, all transactions prohibited by the Russian Harmful Foreign Activities Sanctions Regulations, 31 CFR part 587 (RuHSR), that are ordinarily incident and necessary to the wind down of derivative contracts entered into prior to 4:00 p.m. eastern standard time, February 24, 2022, that (i) include one of the following entities (together, the “Covered Entities”) as a counterparty or (ii) are linked to debt or equity of a Covered Entity are authorized through 12:01 a.m. eastern daylight time, May 25, 2022, provided that any payments to a blocked person are made into a blocked account:

(i) State Corporation Bank for Development and Foreign Economic Affairs Vnesheconombank;

(ii) Public Joint Stock Company Bank Financial Corporation Otkritie;

(iii) Sovcombank Open Joint Stock Company;

(iv) Public Joint Stock Company Sberbank of Russia;

(v) VTB Bank Public Joint Stock Company; or

(vi) Any entity in which one or more of the above entities own, directly or indirectly, individually or in the aggregate, a 50 percent or greater interest.

(2) Debits to accounts on the books of a U.S. financial institution of the blocked entities described in paragraph (a)(1) of this general license are authorized to the extent ordinarily incident and necessary to effect the transactions authorized in paragraph (a)(1) of this general license.

(b) Except as provided in paragraph (c) of this general license, all transactions prohibited by Directive 4 under Executive Order (E.O). 14024, Prohibitions Related to Transactions Involving the Central Bank of the Russian Federation, the National Wealth Fund of the Russian Federation, and the Ministry of Finance of the Russian Federation, that are ordinarily incident and necessary to the wind down of derivative contracts, repurchase agreements, or reverse repurchase agreements entered into prior to 12:01 a.m. eastern standard time, March 1, 2022, that include the Central Bank of the Russian Federation, the National Wealth Fund of the Russian Federation, or the Ministry of Finance of the Russian Federation (collectively, “Directive 4 entities”) as a counterparty are authorized through 12:01 a.m. eastern daylight time, May 25, 2022.

(c) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Directive 4 entities; or

(3) Any transactions otherwise prohibited by the RuHSR, including transactions involving any person blocked pursuant to the RuHSR other than the persons described in paragraph (a) of this general license, unless separately authorized.

(d) Effective March 2, 2022, General License No. 10, dated February 24, 2022, is replaced and superseded in its entirety by this General License No. 10A.

Andrea M. Gacki,

Director, Office of Foreign Assets Control.

Dated: March 2, 2022.

OFFICE OF FOREIGN ASSETS CONTROL

Russian Harmful Foreign Activities Sanctions Regulations

31 CFR Part 587

GENERAL LICENSE NO. 10B

Authorizing Certain Transactions Related to Derivative Contracts

(a)(1) Except as provided in paragraph (c) of this general license, all transactions prohibited by the Russian Harmful Foreign Activities Sanctions Regulations, 31 CFR part 587 (RuHSR), that are ordinarily incident and necessary to the wind down of derivative contracts entered into prior to 4:00 p.m. eastern standard time, February 24, 2022, that (i) include one of the following entities (together, the “Tranche 1 entities”) as a counterparty or (ii) are linked to debt or equity of a Tranche 1 entity are authorized through 12:01 a.m. eastern daylight time, May 25, 2022, provided that any payments to a blocked person are made into a blocked account:

(i) State Corporation Bank for Development and Foreign Economic Affairs Vnesheconombank;

(ii) Public Joint Stock Company Bank Financial Corporation Otkritie;

(iii) Sovcombank Open Joint Stock Company;

(iv) Public Joint Stock Company Sberbank of Russia;

(v) VTB Bank Public Joint Stock Company; or

(vi) Any entity in which one or more of the above entities own, directly or indirectly, individually or in the aggregate, a 50 percent or greater interest.

(2) Except as provided in paragraph (c) of this general license, all transactions prohibited by the RuHSR that are ordinarily incident and necessary to the wind down of derivative contracts entered into prior to 4:00 p.m. eastern daylight time, April 6, 2022, that (i) include Joint Stock Company Alfa-Bank (“Alfa-Bank”) or any entity in which Alfa-Bank owns, directly or indirectly, a 50 percent or greater interest (collectively, “Alfa-Bank entities”) as a counterparty or (ii) are linked to debt or equity of an Alfa-Bank entity are authorized through 12:01 a.m. eastern daylight time, June 30, 2022, provided that any payments to a blocked person are made into a blocked account.

(3) Debits to accounts on the books of a U.S. financial institution of the blocked entities described in paragraphs (a)(1) and (2) of this general license are authorized to the extent ordinarily incident and necessary to effect the transactions authorized in paragraphs (a)(1) and (2) of this general license.

(b) Except as provided in paragraph (c) of this general license, all transactions prohibited by Directive 4 under Executive Order (E.O.) 14024, Prohibitions Related to Transactions Involving the Central Bank of the Russian Federation, the National Wealth Fund of the Russian Federation, and the Ministry of Finance of the Russian Federation, that are ordinarily incident and necessary to the wind down of derivative contracts, repurchase agreements, or reverse repurchase agreements entered into prior to 12:01 a.m. eastern standard time, March 1, 2022, that include the Central Bank of the Russian Federation, the National Wealth Fund of the Russian Federation, or the Ministry of Finance of the Russian Federation (collectively, “Directive 4 entities”) as a counterparty are authorized through 12:01 a.m. eastern daylight time, May 25, 2022.

(c) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Directive 4 entities; or

(3) Any transactions otherwise prohibited by the RuHSR, including transactions involving any person blocked pursuant to the RuHSR other than the persons described in paragraph (a) of this general license, unless separately authorized.

(d) Effective April 6, 2022, General License No. 10A, dated March 2, 2022, is replaced and superseded in its entirety by this General License No. 10B.

Andrea M. Gacki,

Director, Office of Foreign Assets Control.

Dated: April 6, 2022.

OFFICE OF FOREIGN ASSETS CONTROL

Russian Harmful Foreign Activities Sanctions Regulations

31 CFR Part 587

GENERAL LICENSE NO. 10C

Authorizing Certain Transactions Related to Derivative Contracts

(a)(1) Except as provided in paragraph (c) of this general license, all transactions prohibited by the Russian Harmful Foreign Activities Sanctions Regulations, 31 CFR part 587 (RuHSR), that are ordinarily incident and necessary to the wind down of derivative contracts entered into prior to 4:00 p.m. eastern standard time, February 24, 2022, that (i) include one of the following entities (collectively, the “Russian financial institution entities”) as a counterparty or (ii) are linked to debt or equity of a Russian financial institution entity are authorized through 12:01 a.m. eastern daylight time, May 25, 2022, provided that any payments to a blocked person are made into a blocked account:

(i) State Corporation Bank for Development and Foreign Economic Affairs Vnesheconombank;

(ii) Public Joint Stock Company Bank Financial Corporation Otkritie;

(iii) Sovcombank Open Joint Stock Company;

(iv) Public Joint Stock Company Sberbank of Russia;

(v) VTB Bank Public Joint Stock Company; or

(vi) Any entity in which one or more of the above entities own, directly or indirectly, individually or in the aggregate, a 50 percent or greater interest.

(2) Except as provided in paragraph (c) of this general license, all transactions prohibited by the RuHSR that are ordinarily incident and necessary to the wind down of derivative contracts entered into prior to 4:00 p.m. eastern daylight time, April 6, 2022, that (i) include Joint Stock Company Alfa-Bank (“Alfa-Bank”) or any entity in which Alfa-Bank owns, directly or indirectly, a 50 percent or greater interest (collectively, “Alfa-Bank entities”) as a counterparty or (ii) are linked to debt or equity of an Alfa-Bank entity are authorized through 12:01 a.m. eastern daylight time, June 30, 2022, provided that any payments to a blocked person are made into a blocked account.

(3) Except as provided in paragraph (c) of this general license, all transactions prohibited by the RuHSR that are ordinarily incident and necessary to the wind down of derivative contracts entered into prior to 4:00 p.m. eastern daylight time, April 7, 2022, that (i) include Public Joint Stock Company Alrosa (“Alrosa”), or any entity in which Alrosa owns, directly or indirectly, a 50 percent or greater interest (collectively, “Alrosa entities”) as a counterparty or (ii) are linked to debt or equity of an Alrosa entity are authorized through 12:01 a.m. eastern daylight time, July 1, 2022, provided that any payments to a blocked person are made into a blocked account.

(4) Debits to accounts on the books of a U.S. financial institution of the blocked entities described in paragraph (a) of this general license are authorized to the extent ordinarily incident and necessary to effect the transactions authorized in paragraph (a) of this general license.

(b) Except as provided in paragraph (c) of this general license, all transactions prohibited by Directive 4 under Executive Order (E.O.) 14024, Prohibitions Related to Transactions Involving the Central Bank of the Russian Federation, the National Wealth Fund of the Russian Federation, and the Ministry of Finance of the Russian Federation, that are ordinarily incident and necessary to the wind down of derivative contracts, repurchase agreements, or reverse repurchase agreements entered into prior to 12:01 a.m. eastern standard time, March 1, 2022, that include the Central Bank of the Russian Federation, the National Wealth Fund of the Russian Federation, or the Ministry of Finance of the Russian Federation (collectively, “Directive 4 entities”) as a counterparty are authorized through 12:01 a.m. eastern daylight time, May 25, 2022.

(c) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Directive 4 entities; or

(3) Any transactions otherwise prohibited by the RuHSR, including transactions involving any person blocked pursuant to the RuHSR other than the persons described in paragraph (a) of this general license, unless separately authorized.

(d) Effective April 7, 2022, General License No. 10B, dated April 6, 2022, is replaced and superseded in its entirety by this General License No. 10C.

Bradley T. Smith,

Deputy Director, Office of Foreign Assets Control.

Dated: April 7, 2022.

OFFICE OF FOREIGN ASSETS CONTROL

Executive Order 14024 of April 15, 2021

Blocking Property With Respect to Specified Harmful Foreign Activities of the Government of the Russian Federation

GENERAL LICENSE NO. 11

Authorizing the Wind Down of Transactions Involving Certain Blocked Persons

(a) Except as provided in paragraph (b) of this general license, all transactions prohibited by Executive Order (E.O.) 14024 that are ordinarily incident and necessary to the wind down of transactions involving one or more of the following blocked persons are authorized through 12:01 a.m. eastern daylight time, March 26, 2022:

(1) Public Joint Stock Company Bank Financial Corporation Otkritie;

(2) Sovcombank Open Joint Stock Company;

(3) VTB Bank Public Joint Stock Company; or

(4) Any entity in which one or more of the above persons own, directly or indirectly, individually or in the aggregate, a 50 percent or greater interest.

(b) This general license does not authorize any transactions involving any person blocked pursuant to E.O. 14024 other than the blocked persons described in paragraph (a) of this general license, unless separately authorized.

Andrea M. Gacki,

Director, Office of Foreign Assets Control.

Dated: February 24, 2022.

OFFICE OF FOREIGN ASSETS CONTROL

Executive Order 14024 of April 15, 2021

Blocking Property With Respect to Specified Harmful Foreign Activities of the Government of the Russian Federation

GENERAL LICENSE NO. 12

Authorizing U.S. Persons To Reject Certain Transactions

(a) Except as provided in paragraph (b) of this general license, U.S. persons are authorized to reject all transactions prohibited by Executive Order (E.O.) 14024 involving one or more of the following blocked persons that are not authorized, through 12:01 a.m. eastern daylight time, March 26, 2022:

(1) Public Joint Stock Company Bank Financial Corporation Otkritie;

(2) Sovcombank Open Joint Stock Company;

(3) VTB Bank Public Joint Stock Company; or

(4) Any entity in which one or more of the above persons own, directly or indirectly, individually or in the aggregate, a 50 percent or greater interest.

(b) This general license does not authorize a U.S. person to reject any transaction involving any person blocked pursuant to E.O. 14024 other than the blocked persons described in paragraph (a) of this general license, unless those transactions are separately authorized.

Andrea M. Gacki,

Director, Office of Foreign Assets Control.

Dated: February 24, 2022.

Andrea M. Gacki,
Director, Office of Foreign Assets Control.

[FR Doc. 2022-19512 Filed 9-8-22; 8:45 am]

BILLING CODE 4810-AL-P